DEPARTMENT OF THE INTERIOR

National Park Service

[NPS-WASO-NAGPRA-NPS0024107; PPWOCRADN0-PCU00RP14.R50000]

Notice of Inventory Completion: Wisconsin Historical Society, Madison, WI

AGENCY: National Park Service, Interior.

ACTION: Notice.

SUMMARY: The Wisconsin Historical Society has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Wisconsin Historical Society. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Wisconsin Historical Society at the address in this notice by November 16, 2017.

ADDRESSES: Jennifer Kolb, Wisconsin Historical Museum, 816 State St., Madison, WI 53706, telephone (608) 264-6434, email Jennifer.Kolb@wisconsinhistory.org.

SUPPLEMENTARY INFORMATION: Notice is here given in accordance with the Native American Graves Protection and Repatriation Act (NAGPRA), 25 U.S.C. 3003, of the completion of an inventory of human remains and associated funerary objects under the control of the Wisconsin Historical Society, Madison, WI. The human remains and associated funerary objects were removed from the Island Village site in Manitowoc County, WI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Wisconsin Historical Society professional staff in consultation with representatives of the Forest County Potawatomi Community, Wisconsin; Ho-Chunk Nation of Wisconsin; Lac du Flambeau Band of Lake Superior Chippewa Indians of the Lac du Flambeau Reservation of Wisconsin; and the Menominee Indian Tribe of Wisconsin.

History and Description of the Remains

In 1989, human remains representing, at minimum, four individuals were removed from the Island Village site (47-MN-0101) in Manitowoc County, WI. The site is located within the Kill Snake Marsh and Wildlife Area run by the Wisconsin Department of Natural Resources (WDNR). Employees of the WDNR found human remains and associated funerary objects brought to the surface by plowing. Representatives from the Wisconsin Historical Society visited the site and were given the human remains and associated funerary objects. The human remains represent four individuals, including one young adult and three juveniles. No known individuals were identified. The four associated funerary objects are 1 decorated German silver brooch or hair plate, 1 lot of five copper bracelets, 1 copper picture frame mat, and 1 lot of beads.

The kinds of associated funerary objects recovered suggest a historic period date for the human remains, specifically the mid-1800s. Objects like the silver German brooch did not come into use in the Great Lakes until after the 1830s. The picture frame mat was of the type that would have been used to frame an ambrotype or daguerreotype suggesting a post-1850 date. The Island Village site was first recorded in written documents by archeologist Charles E. Brown in 1906 who stated that a Mr. Louis Falge identified the site as a Potawatomi village. Archival research conducted by the Forest County Potawatomi Community, Wisconsin, identified the location as a historic village site that was led by Potawatomi chief Chaiconda. The site was described by Falge as being occupied and under cultivation until 1864, which corresponds with the estimated age of the associated funerary objects.

Determinations Made by the Wisconsin Historical Society

Officials of the Wisconsin Historical Society have determined that:

• Pursuant to 25 U.S.C. 3001(9), the human remains described in this notice represent the physical remains of four individuals of Native American ancestry.

• Pursuant to 25 U.S.C. 3001(3)(A), the four objects described in this notice are reasonably believed to have been placed with or near individual human remains at the time of death or later as part of the death rite or ceremony.

• Pursuant to 25 U.S.C. 3001(2), there is a relationship of shared group identity that can be reasonably traced between the Native American human remains and associated funerary objects and the Forest County Potawatomi Community, Wisconsin; Hannahville Indian Community, Michigan; Match-e-be-nash-she-wish Band of Pottawatomi Indians of Michigan; Nottawaseppi Huron Band of the Potawatomi; and the Pokagon Band of Potawatomi Indians, Michigan and Indiana.

Additional Requestors and Disposition

Lineal descendants or representatives of any Indian Tribe or Native Hawaiian organization not identified in this notice that wish to request transfer of control of these human remains and associated funerary objects should submit a written request with information in support of the request to Jennifer Kolb, Wisconsin Historical Society, 816 State Street, Madison, WI 53706, telephone (608) 264-6434, email Jennifer.Kolb@wisconsinhistory.org, by November 16, 2017. After that date, if no additional requestors have come forward, transfer of control of the human remains and associated funerary objects to the Forest County Potawatomi Community, Wisconsin; Hannahville Indian Community, Michigan; Match-e-be-nash-she-wish Band of Pottawatomi Indians of Michigan; Nottawaseppi Huron Band of the Potawatomi; and the Pokagon Band of Potawatomi Indians, Michigan and Indiana, may proceed.

The Wisconsin Historical Society is responsible for notifying the Forest County Potawatomi Community, Wisconsin; Hannahville Indian Community, Michigan; Ho-Chunk Nation of Wisconsin; Lac du Flambeau Band of Lake Superior Chippewa Indians of the Lac du Flambeau Reservation of Wisconsin; Match-e-be-nash-she-wish Band of Pottawatomi Indians of Michigan; Menominee Indian Tribe of Wisconsin; Nottawaseppi Huron Band of the Potawatomi; and the Pokagon Band of Potawatomi Indians, Michigan and Indiana, that this notice has been published.

Dated: September 5, 2017.
Melanie O'Brien,
Manager, National NAGPRA Program.

[FR Doc. 2017-22430 Filed 10-16-17; 8:45 am]

BILLING CODE 4312-52-P